DEPARTMENT OF TRANSPORTATION

Office of the Secretary

Aviation Proceedings, Agreements Filed During the Week Ending February 22, 2002

The following Agreements were filed with the Department of Transportation under the provisions of 49 U.S.C. sections 412 and 414. Answers may be filed within 21 days after the filing of the application.

Docket Number: OST-2002-11618.

Date Filed: February 19, 2002.

Parties: Members of the International Air Transport Association.

Subject: PTC23 EUR-SEA 0135 dated 22 February 2002; Mail Vote 207—TC23/TC123 Europe-South East Asia; Standard Revalidation Resolution 002 r1-r25; Intended effective date: 1 October 2002.

Docket Number: OST-2002-11632.

Date Filed: February 20, 2002.

Parties: Members of the International Air Transport Association.

Subject: PTC COMP 0900 dated 15 February 2002; Mail Vote 200—Resolution 010c; New Fare Construction Package; Intended effective date: 1 April 2002.

Docket Number: OST-2002-11637.

Date Filed: February 20, 2002.

Parties: Members of the International Air Transport Association.

Subject: PTC3 0549 dated 22 February 2002; Mail Vote 205—Resolution 010f; TC3 Special Passenger Amending Resolution between China (excluding Hong Kong SAR and Macau SAR) and Japan; Intended effective date: 1 April 2002.

Dorothy Y. Beard,
Federal Register Liaison.

[FR Doc. 02-5912 Filed 3-11-02; 8:45 am]

BILLING CODE 4910-62-P